DEPARTMENT OF THE TREASURY

Community Development Financial Institutions Fund

Information Collection, CDFI and NACA Programs

AGENCY: Community Development Financial Institutions Fund, Treasury.

ACTION: Notice and Request for Public Comment.

SUMMARY: The U.S. Department of the Treasury, as part of its continuing effort to reduce paperwork and respondent burden, invites the general public and other Federal agencies to take this opportunity to comment on proposed and/or continuing information collections, as required by the Paperwork Reduction Act (PRA) of 1995, 44 U.S.C. 3506(c)(2)(A). Currently, the Community Development Financial Institutions Fund (CDFI Fund), U.S. Department of the Treasury, is soliciting comments concerning the Community Development Financial Institutions Program (CDFI Program) and the Native American CDFI Assistance Program (NACA Program) Financial Assistance and Technical Assistance Applications for the FY 2017-FY 2019 funding rounds (hereafter, the Application or Applications). The CDFI Fund is required by law to make the Applications publically available for comment prior to submission for a new PRA number.

DATES: Written comments must be received on or before September 12, 2016 to be assured of consideration.

ADDRESSES: Submit your comments via email to Amber Bell, CDFI Program and NACA Program Manager, CDFI Fund, at cdfihelp@cdfi.treas.gov.

FOR FURTHER INFORMATION CONTACT: Amber Bell, CDFI Program and NACA Program Manager, CDFI Fund, U.S. Department of the Treasury, 1500 Pennsylvania Avenue NW., Washington, DC 20220 or email to cdfihelp@cdfi.treas.gov.

The Applications may be obtained from the CDFI Program page and NACA Program page of the CDFI Fund's Web site https://www.cdfifund.gov/Lists/CDFI%20News/View.aspx.

SUPPLEMENTARY INFORMATION:

Title: CDFI Program and NACA Program Financial Assistance and Technical Assistance Applications;

OMB Number: 1559-0021.

Abstract: The CDFI Program is authorized by the Riegle Community Development Banking and Financial Institutions Act of 1994 (Pub. L. 103-325, 12 U.S.C. 4701 et seq.). Funding for the CDFI Program and the NACA Program is made available by Congress to the CDFI Fund through its annual appropriations. The regulations governing the CDFI Program are found at 12 CFR parts 1805 and 1815 (the Regulations) and set forth evaluation criteria and other program requirements. For a complete understanding of the programs, the CDFI Fund encourages Applicants to review the Regulations, the Notice of Funds Availability (NOFA) for the FY 2016 application round of the CDFI Program (81 Federal Register 8328, February 18, 2016), the NOFA for the FY 2016 application round of the NACA Program (81 Federal Register 8342, February 18, 2016), the Application, and the Uniform Administrative Requirements, Cost Principles, and Audit Requirements for Federal Awards (2 CFR 200) (Uniform Administrative Requirements). Capitalized terms in this Request for Public Comment are defined in the CDFI Program's authorizing statute, the Regulations, the FY 2016 CDFI Program and NACA Program NOFAs, the Application, and the Uniform Administrative Requirements.

Through the CDFI Program and NACA Program's Financial Assistance awards and Technical Assistance grants, the CDFI Fund invests in and builds the capacity of for-profit and nonprofit community based lending organizations known as Community Development Financial Institutions (CDFIs).

CDFI Program and NACA Program award Recipients will be competitively selected after the CDFI Fund's careful review of their Applications. The proposed Financial Assistance Application requires the submission of quantitative and qualitative information about the Applicant's Business Strategy, Products and Services, Market and Competitive Analysis, Management and Staffing, Financial Position, and Growth and Financial Projections. The proposed Technical Assistance Application requires the submission of quantitative and qualitative information about CDFI Certification Qualifications, an Organizational Overview, and Use of Funds. Please refer to the FY 2016 CDFI Program and NACA Program NOFAs for additional guidance on the review and application process for past funding rounds.

This request for public comment seeks to gather information on the CDFI Program and NACA Program Financial Assistance and Technical Assistance Applications.

Current Actions: Renewal of existing Information Collection.

Type of Review: Regular Review.

Affected Public: Certified CDFIs and qualified Nonprofit Organizations.

Estimated Number of Respondents for Financial Assistance: 400.

Estimated Annual Time per Respondent for Financial Assistance: 100.

Estimated Total Annual Burden Hours for Financial Assistance: 40,000.

Estimated Number of Respondents for Technical Assistance: 100.

Estimated Annual Time per Respondent for Technical Assistance: 50.

Estimated Total Annual Burden Hours for Technical Assistance: 5,000.

Requests for Comments: Comments submitted in response to this notice will be summarized and/or included in the request for Office of Management and Budget approval. All comments will become a matter of public record and may be published on the CDFI Fund's Web site at http://www.cdfifund.gov. The CDFI Fund is seeking input on the content of the CDFI Program and NACA Program Financial Assistance and Technical Assistance Applications. The Applications may be obtained on the CDFI Fund's Web site at https://www.cdfifund.gov/Lists/CDFI%20News/View.aspx. CDFI Program and NACA Program Financial Assistance awards must be used for Financial Products, Financial Services, and/or Development Services for commercial facilities, small businesses, microenterprises, community facilities, consumer financial products and services, affordable housing, and intermediary lending to nonprofits and CDFIs — so long as those activities allow the Recipient to achieve at least one of the following statutorily required Financial Assistance activities: Expand operations into a new Investment Area(s); serve a new Targeted Population(s); provide additional or new Financial Products, Financial Services, and/or Development Services; and/or increase the volume of current Financial Products, Financial Services, and/or Development Services.

Comments concerning the Applications are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

In addition, the CDFI Fund requests comments in response to the following questions:

(1) Is the information that is proposed to be collected by the Application necessary and appropriate for the CDFI Fund to consider for the purpose of making award decisions?

(2) Are certain questions or tables redundant or unnecessary?

(3) Should any questions or tables be added to ensure collection of relevant information?

(4) In general, does the data and information requested in the Application allow an Applicant to demonstrate its ability to meet the eligible uses (commercial facilities, small businesses, microenterprises, community facilities, consumer financial products and services, affordable housing, and intermediary lending to nonprofits and CDFIs) of CDFI Fund Program awards?

(5) Is the data and information requested in the Application to assess proposed Financial Assistance activities adequate to assess these different activities?

(6) What, if any, additional data and information should be collected to assess Financial Assistance activities?

(7) Are any of the questions particularly burdensome or difficult to answer? Please be specific to type of CDFI (e.g., regulated, non-profit, sector)?

(8) Are the character limitations for narrative responses appropriate? Should certain questions allow additional or fewer characters?

(9) Are there questions that lack clarity as to intent or purpose? If so, which questions, and what needs to be clarified in order to provide a comprehensive response?

(10) Are there questions that would require additional guidance in order to respond adequately? If so, which questions, and what type of instructions would be helpful in order to be able to provide a response?

(11) Is the financial data that is intended to be collected adequate to assess an Applicant's financial and portfolio performance?

(12) Is there other information not requested in the Application that could demonstrate an Applicant's financial and portfolio performance?

(13) Tables in Questions 6 a-d ask for certain data and information that will be used to assess an Applicant's projected Financial Assistance activities. Is the data collected in these tables adequate to assess an Applicant's projected Financial Assistance activities?

(14) Is there other information not requested in the Application that would demonstrate an Applicant's projected Financial Assistance activities?

(15) Are there requests for data in the Application that Applicants do not have readily available or that are burdensome to obtain and/or calculate?

(16) Do the questions in the Technical Assistance Application allow the Applicant to clearly answer the evaluation criteria if the CDFI Program and NACA Program were to evaluate Technical Assistance Awards by the applicant's ability to achieve the following for each applicant category type:

(a) Emerging and Certifiable CDFI: Achieve certification for the Applicant;

(b) Sponsoring Entity: Create and certify a new CDFI; and

(c) Certified CDFI: Build the capacity of the Applicant to expand operations, offer new products or services, or increase the volume of current business?

Authority: Pub. L. 110-289, 12 CFR 1807.

Mary Ann Donovan,
Director, Community Development Financial Institutions Fund.

[FR Doc. 2016-16417 Filed 7-11-16; 8:45 am]

BILLING CODE 4810-70-P